DEPARTMENT OF LABOR

Veterans' Employment Training Service

Proposed Collection; Comment Request; Federal Contractor Veterans' Employment Reports VETS-100 and VETS-100A

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Veterans' Employment and Training Service (VETS) is soliciting comments concerning the proposed revision of the currently approved information collection request for the “Federal Contractor Veterans” Employment Report VETS-100” to include the “Federal Contractor Veterans” Employment Report VETS-100A.” A copy of the proposed information collection request can be obtained by contacting the office listed below in the ADDRESSES section of this Notice.

DATES: Written comments must be submitted to the office listed in the ADDRESSES section below on or before December 3, 2007.

ADDRESSES: Comments are to be submitted to Robert Wilson, Chief, Division of Investigation and Compliance, VETS, U.S. Department of Labor, Room S-1316, 200 Constitution Avenue, NW., Washington, DC 20210. Electronic transmission is the preferred method for submitting comments. E-mail may be sent to FCP-PRA-04-VETS@dol.gov. Include ”VETS-100A” in the subject line of the message. Written comments of 10 pages or fewer also may be transmitted by facsimile to (202) 693-4755 (this is not a toll free number). Receipt of submissions, whether by U.S. Mail, e-mail or FAX transmittal, will not be acknowledged; however, the sender may request confirmation that a submission has been received, by telephoning VETS at (202) 693-4719 (VOICE) (this is not a toll-free number) or (202) 693-4753 (TTY/TDD).

SUPPLEMENTARY INFORMATION:

I. Background

The Vietnam Era Veterans' Readjustment Assistance Act of 1974 (“VEVRAA”), 38 U.S.C. 4212(d), requires Federal contractors and subcontractors subject to the Act's affirmative action provisions in 38 U.S.C. 4212(a) to track and report annually to the Secretary of Labor the number of employees in their workforces, by job category and hiring location, who belong to the specified categories of covered veterans. VETS has issued regulations set forth in 41 CFR part 61-250 that currently require contractors to use the Federal Contractor Veterans' Employment Report VETS-100 (“VETS-100 Report”) form for reporting information on the number of covered veterans in their workforces. The VETS-100 Report is currently approved under OMB No. 1293-0005.

The Jobs for Veterans Act (JVA) (Pub. L. 107-288), which was enacted in 2002, amended VEVRAA by making two changes to the reporting requirements applicable to contracts entered into on or after December 1, 2003. The JVA amendments: (1) Increased from $25,000 to $100,000, the dollar amount of the contract that subjects a Federal contractor to the requirement to report on veterans' employment; and (2) changed the categories of covered veterans under VEVRAA, and thus the categories of veterans that contractors are required to track and report on annually.

The JVA amendments to the reporting requirements under VEVRAA apply only to contracts entered into on or after December 1, 2003. Some contractors have Government contracts that were entered into before December 1, 2003, and are still subject to the reporting requirements in 41 CFR part 61-250. Therefore, VETS has determined that it will be necessary to maintain two sets of regulations to implement the reporting requirements under VEVRAA, and use two different forms for providing the required information on the employment of covered veterans.

On August 8, 2006, VETS published a Notice of Proposed Rulemaking (NPRM), (71 FR 44945), to implement the changes made by JVA to the reporting requirements under VEVRAA. The NPRM proposed to adopt a new set of regulations that would be codified in a new 41 CFR part 61-300. The NPRM also proposed to adopt a new form for reporting the information on veterans' employment required by the JVA amendments to VEVRAA and name it the Federal Contractor Veterans' Employment Report VETS-100A. The existing regulations at 41 CFR part 60-250 and the VETS-100 reporting requirements will continue to apply to Government contracts entered into before December 1, 2003.

II. Desired Focus of Comments

Currently VETS is soliciting comments concerning the proposed revision of the currently approved information collection request to include the “Federal Contractor Veterans' Employment Report VETS-100A.” The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions

The Department of Labor seeks approval of the revision of the currently approved information collection request to include the Federal Contractor Veterans' Employment Report VETS-100A in order to carry out its responsibilities to administer and enforce compliance with the contractor reporting requirements under VEVRAA, as amended by the JVA.

Type of Review: Revision of currently approved collection.

Agency: Veterans' Employment and Training Service.

Title: Federal Contractor Veterans' Report VETS-100.

OMB Number: 1293-0005.

Affected Public: Government contractors and subcontractors with a contract of $25,000 or more entered into before December 1, 2003, that are required to comply with the affirmative action provisions of the Vietnam Era Veterans' Readjustment Assistance Act.

Title: Federal Contractor Veterans' Report VETS-100A.

OMB Number: 1293-0005.

Affected Public: Government contractors and subcontractors with a contract of $100,000 or more entered into or modified on or after December 1, 2003, that are required to comply with the affirmative action provisions of the Vietnam Era Veterans' Readjustment Assistance Act.

Federal Contractor Veterans' VETS-100 and VETS-100A OMB Number: 1293-0005
Submission from Federal contractors | VETS-100 only | VETS-100A only | Both VETS-100 VETS-100A | Total reporting
Total Respondents | 6,000 | 10,000 | 4,000 | 20,000
Total Annual Responses | 66,000 | 110,000 | 88,000 | 264,000
Avg. Paper Response (35%) | 1 hr | 1 hr | 45 min |
Avg. Electronic Response (65%) | 30 min | 30 min | 15 min |
Burden Hours
| Paper | 23,100 | 38,500 | 23,100* | 84,700
Electronic | 21,450 | 35,750 | 14,300** | 71,500
| Total Filing Burden Hours | 44,550 | 74,250 | 37,400 | 156,200
One-Time Implementation Burden (VETS-100) |  | 308,000 |  | 308,000
| Total Filing Burden Cost | $712,800 | $1,188,000 | $598,400 | $2,499,200
One Time Implementation Burden Cost (VETS-100A) | $0 | $4,180,000 | $1,672,000 | $5,852,000
*Paper both 88,000*.35 x 0.75 = 23,100.
**Electronic both: 88,000 x 0.65 x 0.25 = 14,300.

Comments submitted in response to this notice will be summarized and/or included in the request for Office of Management and Budget approval of the information collection request; they will also become a matter of public record.

Dated: September 25, 2007.
John M. McWilliam,
Deputy Assistant Secretary, Veterans' Employment and Training.

[FR Doc. E7-19331 Filed 10-1-07; 8:45 am]

BILLING CODE 4510-79-P